DEPARTMENT OF THE INTERIOR

Bureau of Land Management

[LLNM930000.L14400000.BJ0000.BX0000]

Notice of Filing of Plats of Survey; New Mexico; Oklahoma

AGENCY: Bureau of Land Management, Interior.

ACTION: Notice of official filing.

SUMMARY: The plats of survey of the following described land are scheduled to be officially filed 30 days after the date of this publication in the Bureau of Land Management (BLM), New Mexico Office, Santa Fe, New Mexico. The surveys announced in this notice are necessary for the management of lands administered by the agency indicated.

ADDRESSES: These plats will be available for inspection in the New Mexico Office, Bureau of Land Management, 301 Dinosaur Trail, Santa Fe, New Mexico, 85004-4427. Protests of a survey should be sent to the New Mexico Director at the above address.

FOR FURTHER INFORMATION CONTACT: Michael J. Purtee, Chief Cadastral Surveyor; (505) 761-8903; mpurtee@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

New Mexico Principal Meridian, New Mexico

The supplemental plat, Romero Tract, within the Las Trampas Grant, accepted March 16, 2020, for Group 1195, New Mexico.

This supplemental plat was prepared to correct the location of the Romero Tract.

The plat only, in two sheets, representing the dependent resurvey, subdivision of section 21, and metes-and-bounds surveys, Township 8 North, Range 11 West, accepted August 19, 2021, for Group 1208, New Mexico.

This plat was prepared at the request of the Bureau of Land Management, Rio Puerco Field Office.

The plat only, in two sheets, representing the dependent resurvey, metes-and-bounds survey, and survey of a public access easement, Township 20 North, Range 9 East, accepted September 13, 2021, for Group 1209, New Mexico.

This plat was prepared at the request of the Bureau of Land Management, Taos Field Office.

The plat only, in three sheets, representing the dependent resurvey and subdivision of section 9, Township 13 North, Range 3 East, accepted August 18, 2022, for Group 1211, New Mexico.

This plat was prepared at the request of the Bureau of Indian Affairs, Central Office.

Indian Meridian, Oklahoma

The plat, representing the dependent resurvey and survey, Township 5 South, Range 9 West, accepted July 15, 2022, for Group 239, Oklahoma.

This plat was prepared at the request of the Bureau of Land Management, Oklahoma Field Office.

The plat, representing the dependent resurvey and survey, Township 14 North, Range 9 West, accepted August 12, 2021, for Group 244, Oklahoma.

This plat was prepared at the request of the Bureau of Indian Affairs, Southern Plains Regional Office, Oklahoma.

A person or party who wishes to protest against any of these surveys must file a written notice of protest within 30 calendar days from the date of this publication with the New Mexico Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Michael J. Purtee,
Chief Cadastral Surveyor of New Mexico; and Oklahoma.

[FR Doc. 2022-18198 Filed 8-23-22; 8:45 am]

BILLING CODE 4310-FB-P